DEPARTMENT OF TRANSPORTATION

Office of the Secretary

14 CFR Part 234

[Docket No. DOT-OST-2007-0022]

RIN No. 2105-AE02

Posting of Flight Delay Data on Web Sites

AGENCY: Office of the Secretary (OST), Department of Transportation (DOT).

ACTION: Direct final rule; confirmation of effective date

SUMMARY: This document confirms the effective date of the direct final rule amending the time period for uploading flight performance information to a reporting air carrier's Web site from anytime between the 20th and 23rd day of the month to the fourth Saturday of the month.

DATES: This final rule is effective on July 21, 2010.

FOR FURTHER INFORMATION CONTACT: Blane A. Workie, Deputy Assistant General Counsel, Office of the Assistant General Counsel for Aviation Enforcement and Proceedings, U.S. Department of Transportation, 1200 New Jersey Ave., SE., Washington, DC 20590, 202-366-9342 (phone), 202-366-7152 (fax), blane.workie@dot.gov (e-mail).

SUPPLEMENTARY INFORMATION:

Background

The Department of Transportation's Office of the Secretary (OST) published a direct final rule with a request for comments in the Federal Register on June 21, 2010 (75 FR 34925). The direct final rule required that the reporting carriers (i.e., certificated air carriers that account for at least 1 percent of domestic scheduled passenger revenues) load flight performance data onto their Web sites on Saturday, July 24, 2010, for June data, and all subsequent flight performance information on the fourth Saturday of the month following the month for which the data are that being reported. OST uses the direct final rulemaking procedure for a non-controversial rule where OST believes that there will be no adverse public comment. The direct final rule advised the public that no adverse comments were anticipated, and that unless a written adverse comment was received by July 6, 2010, the regulation would become effective on July 21, 2010. No adverse comments were received, and thus this notice confirms that the direct final rule will become effective on that date.

Issued July 16, 2010, in Washington, DC.
Susan Kurland,
Assistant Secretary for Aviation and International Affairs.

[FR Doc. 2010-17859 Filed 7-21-10; 8:45 am]

BILLING CODE P